DEPARTMENT OF THE INTERIOR

Fish and Wildlife Service

50 CFR Part 18

RIN 1018-AF54

Marine Mammals; Incidental Take During Specified Activities; Correction

AGENCY: Fish and Wildlife Service, Interior.

ACTION: Final rule; correction.

SUMMARY: U.S. Fish and Wildlife Service regulations to authorize the incidental, unintentional take of small numbers of polar bears and Pacific walrus during year-round oil and gas industry exploration, development, and production operations in the Beaufort Sea and adjacent coast of Alaska expired on December 15, 1998. Subsequent regulations that we issued should have been characterized as “adding” rather than “revising” these regulations. This correction makes clear that our intent was to add the regulations.

DATES: This correction is effective March 30, 2000, and remains effective through March 31, 2003.

ADDRESSES: Comments and materials received in response to our most recent final rule action, published in the Federal Register on March 30, 2000, are available for public inspection during normal working hours of 8:00 a.m. to 4:30 p.m., Monday through Friday, at the Office of Marine Mammals Management, U.S. Fish and Wildlife Service, 1011 E. Tudor Road, Anchorage, AK 99503.

FOR FURTHER INFORMATION CONTACT: Jeffrey L. Horwath, Division of Fish and Wildlife Management Assistance and Habitat Restoration, U.S. Fish and Wildlife Service, Telephone 703-358-1718, or on the Internet at Jeffrey_Horwath@fws.gov.

SUPPLEMENTARY INFORMATION: On December 15, 1998, our regulations at 50 CFR Part 18, Subpart J expired. These regulations were effective beginning on December 16, 1993 (58 FR 60402, November 16, 1993), and authorized the incidental, unintentional take of small numbers of polar bears and Pacific walrus during year-round oil and gas industry exploration, development, and production operations in the Beaufort Sea and adjacent coast of Alaska. We subsequently issued final regulations on January 29, 1999 (64 FR 4328) “revising” these expired regulations. Later regulations appear on February 3, 2000 (65 FR 5275), and March 30, 2000 (65 FR 16828). Rather than “revising” our regulations, we should have stated that we were “adding” these regulations at 50 CFR Part 18. Therefore, this action corrects this technical error by changing the amendatory instructions in our March 30, 2000, final rule to state that we are “adding” those regulations to 50 CFR Part 18, Subpart J. Letters of Authorization issued under the regulations are not affected by this action.

Accordingly, make the following correction to FR Doc. 00-7912 published at 65 FR 16828 on March 30, 2000:

PART 18—[CORRECTED]

On page 16842, in column one, correct amendatory instruction 2. to read as follows:

2. Add Subpart J to Part 18 to read as follows:

Dated: November 6, 2000.
Cathleen Short,
Assistant Director, Fisheries and Habitat Conservation, Fish and Wildlife Service.

[FR Doc. 00-28778 Filed 11-8-00; 8:45 am]

BILLING CODE 4310-55-P